DEPARTMENT OF DEFENSE

Office of the Secretary

[Docket ID: DOD-2012-OS-0004]

Proposed Collection; Comment Request

AGENCY: Office of the Under Secretary of Defense (Personnel and Readiness), DoD.

ACTION: Notice.

SUMMARY: In compliance with Section 3506(c)(2)(A) of the Paperwork Reduction Act of 1995, the Office of the Under Secretary of Defense (Personnel and Readiness) announces the following proposed new public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by March 23, 2012.

ADDRESSES: You may submit comments, identified by docket number and title, by any of the following methods:

Federal eRulemaking portal: http://www.regulations.gov. Follow the instructions for submitting comments.

Mail: Federal Docket Management Systems Office, 4800 Mark Center Drive, Suite 02G09, East Tower, 2nd floor, Alexandria, VA 22350-3100.

Instructions: All submissions received must include the agency name, docket number, and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness), Department of Defense Education Activity (DoDEA), 4040 N. Fairfax Drive, 9th Floor, Arlington, VA 22203, ATTN: Dr. Sandra D. Embler or call (703) 588-3143.

Title and OMB Control Number: “Department of Defense Education Activity (DoDEA) School Perception Survey,” OMB CONTROL NUMBER 0704-XXXX.

Needs and Uses: The DoDEA School Perception Survey is a tool used to measure the satisfaction level of sponsors and students with the programs and services provided by DoDEA. This collection is necessary to meet Department of Defense Reform Initiative Directive #23: Defense Agency Performance Contracts which states: “The Directors of the specified Agencies and Field Activities will submit a performance contract covering the period of the Future Years Defense Plan (FYDP) FY 2006 through FY 2011. Each performance contract shall include measures of customer satisfaction with the goods and services provided by the Agency or Field Activity, including the timeliness of deliveries of products and services.” The survey results will also be used to measure the goals and initiatives of the Community Strategic Plan.

Affected Public: Individuals or households.

Annual Burden Hours: 1,152.

Number of Respondents: 3,457.

Responses per Respondent: 1.

Average Burden per Response: 20 minutes.

Frequency: Biennially.

SUPPLEMENTARY INFORMATION:

Summary of Information Collection

The Department of Defense Education Activity (DoDEA) School Perception Survey for Sponsors and Students will be administered to all parents/sponsors of students attending a DoDEA school, as well as students in grades 3-12. Participation in the survey is completely voluntary and will be administered through an online, web-based technology. In order to have comparison between DoDEA parents and parents of students in other public school systems, some survey questions are derived from the Phi Delta Kappa/Gallup Poll of the Public's Attitudes Toward Schools and from other large districts. The questions will provide sponsors and students to comment on their overall perceptions of the DoDEA educational system as well as address DoDEA specific goals and initiatives as indicated in the Community Strategic Plan. The surveys will be administered biennially.

The survey results will be used at all levels of the organization to improve programs and services offered to DoDEA's students. The survey results will also be used as an outcome measure to monitor progress on the goals of the new DoDEA Community Strategic Plan.

Dated: January 17, 2012.
Aaron Siegel,
Alternate OSD Federal Register Liaison Officer, Department of Defense.

[FR Doc. 2012-1142 Filed 1-20-12; 8:45 am]

BILLING CODE 5001-06-P